ENVIRONMENTAL PROTECTION AGENCY

[ER-FRL-6631-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 12, 2002 (67 FR 17992).

Final EISs

ERP No. F-AFS-J65357-MT, White Pine Creek Project, Timber Harvest, Prescribe Fire Burning, Watershed Restoration and Associated Activities, Implementation, Kootenai National Forest, Cabinet Ranger District, Sanders County, MT.

Summary: EPA expressed environmental concerns about potential impacts to water quality from 70 miles of new, temporary and reconstructed roads. EPA supports improvements to habitat and stream channels, 47 miles of road closures and other water resource mitigation measures such as harvesting using skyline cable and helicopter logging methods.

ERP No. F-BLM-K40248-AZ, Diamond Bar Road Improvement Project, Sections of Grapevine Wash, Road Pavement and Realignment, Right-of-Way Permits, Mohave County, AZ.

Summary: No formal comment letter was sent to the preparing agency.

ERP No. F-BLM-K67053-CA, Mesquite Mine Expansion Project, Expansion of the Existing Open-Pit, Heap-Leach, and Precious Metal Mine, Federal Mine Plan of Operations Approval, Conditional Use Permits Issuance and Reclamation Plan Approval, Imperial County, CA.

Summary: No formal comment letter was sent to the preparing agency.

ERP No. F-FHW-D40370-WV, WV-9 Transportation Corridor Improvements from Martinsburg to Charles Town, Funding, Berkeley, Jefferson and Morgan Counties, WV.

Summary: EPA's prior comments on the draft EIS have been adequately addressed in this document. Therefore, EPA concurs with the analysis of impacts and findings and has no objection to the action as proposed.

ERP No. F-FRC-F05123-00, Bond Falls Project, New License Issuance for an Existing Hydroelectric License, (FERC No. 1864-005) Ontonagon River Basin, Ontonagon and Gogebic Counties, MI and Vilas County, WI.

Summary: EPA has no objections to this project. The project has not changed significantly since the Draft stage.

ERP No. F-GSA-K81011-CA, Los Angeles Federal Building—U. S. Courthouse, Construction of a New Courthouse in the Civic Center, City of Los Angeles, Los Angeles County, CA.

Summary: EPA reviewed the FEIS and found that the document adequately addresses the issues raised in EPA's comment letter on the DEIS.

ERP No. F-IBR-G65070-NM, Elephant Butte and Caballo Reservoirs, Resource Management Plan (RMP), Implementation, Sierra and Socorro Counties, NM.

Summary: EPA had no further comments to offer.

ERP No. F-UAF-K11107-CA, EL Rancho Road Bridge Project, Flood-Free Crossing Construction at San Antonia Creek to access from the north of Vandenberg Air Force Base, Santa Barbara County, CA.

Summary: No formal comment letter was sent to the preparing agency.

ERP No. FS-FRC-L05053-WA, Condit Hydroelectric (No. 2342) Project, Updated Information concerning an Application to Amend the Current License to Extend the License Term to October 1, 2006, White Salmon River, Skamania and Klickitat Counties, WA.

Summary: No formal comment letter was sent to the preparing agency.

Dated: July 30, 2002.
Joseph C. Montgomery,
Director, NEPA Compliance Division, Office of Federal Activities.

[FR Doc. 02-19567 Filed 8-1-02; 8:45 am]

BILLING CODE 6560-50-P